NATIONAL SCIENCE FOUNDATION

Special Emphasis Panel in Geosciences; Notice of Meeting

In accordance with the Federal Advisory Committee Act (Pub. L. 92-463, as amended), the National Science Foundation announces the following meeting:

Name: Special Emphasis Panel in Geosciences (#1756).

Date/Time: July 11, 2000; 8 a.m. to 5 p.m.

Place: Room 855; National Science Foundation, 4201 Wilson Blvd., Arlington, VA 22230.

Type of Meeting: Closed.

Contact Person: Dr. Clifford Jacobs, Section Head, UCAR and Lower Atmosphere Facilities Oversight Section, Room 775, Division of Atmospheric Sciences, National Science Foundation, 4201 Wilson Blvd., Arlington, VA 22230. Telephone: (703) 306-1521.

Purpose of Meeting: To provide advice and recommendations concerning proposals submitted to NSF for financial support.

Agenda: To review and evaluate the UNIDATA Equipment proposals as part of the selection process for awards.

Reason for Closing: The proposal being reviewed includes information of a proprietary or confidential nature, including technical information; financial data; such as salaries, and personal information concerning individuals associated with the proposals. These matters are exempt under 5 U.S.C. 552b(c), (4) and (6) of the Government in the Sunshine Act.

Note: Closed portions are proper under Sunshine Act exemptions cited. The CMO's signature on this Notice is the required determination.

Dated: June 12, 2000.
Karen J. York,
Committee Management Officer.

[FR Doc. 00-15227 Filed 5-15-00; 8:45 am]

BILLING CODE 7555-01-M